DEPARTMENT OF THE TREASURY

Submission for OMB Review; Comment Request

February 26, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 4, 2002 to be assured of consideration.

Internal Revenue Service

OMB Number: 1545-1755.

Form Number: IRS Form 8878.

Type of Review: Extension.

Title: IRS e-file Signature Authorization-Application for Extension of Time to File.

Description: Form 8878 is used to allow taxpayers to enter their PIN on their electronically filed application for extension of time to file.

Respondents: Individuals or households.

Estimated Number of Respondents/Recordkeepers: 1,000,000.

Estimated Burden Hours Per Respondent/Recordkeeper:

| Minutes
Learning about the law or the form | 3
Preparing the form | 12

Frequency of Response: Annually.

Estimated Total Reporting/Recordkeeping Burden: 610,000 hours.

Clearance Officer: George Freeland, Internal Revenue Service, Room 5577, 1111 Constitution Avenue, NW, Washington, DC 20224.

OMB Reviewer: Alexander T. Hunt, (202) 395-7860, Office of Management and Budget, Room 10202, New Executive Office Building, Washington, DC 20503.

Mary A. Able,
Departmental Reports, Management Officer.

[FR Doc. 02-5142 Filed 3-4-02; 8:45 am]

BILLING CODE 4830-01-P